DEPARTMENT OF HEALTH AND HUMAN SERVICES

Health Resources and Services Administration

Agency Information Collection Activities: Proposed Collection: Public Comment Request Information Collection Request Title: National Health Service Corps Ambassador Portal OMB No. 0915-0388—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 5, 2017.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: National Health Service Corps Ambassador Portal OMB No. 0915-0388—Extension

Abstract: The National Health Service Corps (NHSC), administered by HRSA, is committed to improving the health of the nation's underserved by uniting communities in need with caring health professionals and by supporting communities' efforts to build better systems of care. NHSC programs provide scholarships and repay qualifying educational loans for primary care physicians, dentists, nurse practitioners, physician assistants, behavioral health clinicians, and other primary care clinicians who agree to practice in Health Professional Shortage Areas (HPSAs).

The NHSC invites current and former NHSC participants and individuals affiliated with academic, clinical, and other public health related organizations to participate in the NHSC Ambassador Program. NHSC Ambassadors provide professional development, training, and mentorship to NHSC Corps members interested in primary care and serving in a HPSA. NHSC Ambassadors also educate current and prospective NHSC participants about the unique or local characteristics of a particular NHSC site, HPSA, or region. NHSC Ambassadors inspire and motivate students and clinicians to provide primary care in communities with health professional shortages.

The NHSC Ambassador Portal serves as both the application interface for interested individuals to apply and become NHSC Ambassadors, as well as the public-facing online searchable database of contact information for Ambassadors. An applicant creates an Ambassador profile that contains information such as name, email address, professional/employment information (including organization name and address, or the school attending), phone number(s), discipline(s) interested in interacting with, and a brief reason why he or she would like to be Ambassador. Completed applications are forwarded through the portal to NHSC staff. If approved, an NHSC Ambassador has the opportunity to add a brief professional biography and social network addresses to his or her profile. Assistance in completing the application is provided through prompts via the online portal and through the NHSC Customer Care Center, if necessary.

Need and Proposed Use of the Information: The need and purpose of this information collection is to provide a database where interested parties can search for an NHSC Ambassador to serve as a local resource who can offer a unique perspective on providing health care services as an NHSC Participant in HPSAs. Based on the analysis of the Directory since its creation in 2014, it is estimated that nearly 600 Ambassadors have the potential to update their profiles within 1 year. The number of new Ambassadors was over-estimated at 200 in 2014, whereas recent trends estimate 156 new Ambassadors annually. Therefore, the estimated increase in updates by current Ambassadors and decrease in new Ambassador profiles results in a net burden hour increase of 6 hours from 2014 to 2017.

Likely Respondents: Current or former NHSC participants or individuals who are affiliated with academic, clinical, or other public health related organizations.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Ambassador Portal—New Applicants | 156 | 1 | 156 | .10 | 16
Ambassador Portal—Updates to current Ambassador profiles | 600 | 1 | 600 | .10 | 60
Total | 756 |  | 756 |  | 76

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-09085 Filed 5-4-17; 8:45 am]

BILLING CODE 4165-15-P